DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Labor Standards for Federal Service Contracts 29 CFR, Part 4. A copy of the proposed information collection request can be obtained by contacting the office listed below in the addresses section of this Notice.

DATES: Written comments must be submitted to the office listed in the ADDRESSES section below on or before June 1, 2004.

ADDRESSES: Ms. Hazel M. Bell, U.S. Department of Labor, 200 Constitution Ave., NW., Room S-3201, Washington, DC 20210, telephone (202) 693-0418, fax (202) 693-1451, Email bell.hazel@dol.gov. Please use only one method of transmission for comments (mail, fax, or Email).

SUPPLEMENTARY INFORMATION:

I. Background

The Service Contract Act (SCA) and Regulation 29 CFR Part 4 impose certain recordkeeping and incidental reporting requirements applicable to employers with employees performing on service contracts within the Federal government. The basic payroll recordkeeping requirements contained in this regulation § 4.6(g)(1)(i) through (iv) have been previously approved under OMB-1215-0017, which constitutes the basic recordkeeping regulations for all laws administered by the Wage and Hour Division. This information collection contains three requirements not cleared under the above information collection. They are: A vacation benefit seniority list, which is used by the contractor to determine vacation fringe benefit entitlements earned and accrued by service contract employees who were employed by predecessor contractors; a conformance record report, which is used by Wage and Hour to determine the appropriateness of the conformance and compliance with the SCA and its regulations; and a collective bargaining agreement, submitted by the contracting agency to Wage and Hour to be used in the issuance of wage determinations for successor contracts subject to section 2(a) and 4(c) of the SCA. This information collection is currently approved for use through September 30, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to carry out the provisions of the Service Contract.

Type of Review: Extension.

Agency: Employment Standards Administration.

Title: Labor Standards for Federal Service Contracts—Regulations 29 CFR, Part 4.

OMB Number: 1215-0150.

Affected Public: Business or other for-profit; Federal Government.

Total Respondents: 83,854.

Time per Response: 83,854.

Requirement | Number of respondents | Average time per response | Burden hours
Vacation Benefit Seniority List | 82,149 | 1 hour | 82,149
Conformance Record | 200 | ½ hour | 100
Collective Bargaining Agreement | 1,505 | 5 minutes | 125
Total | 83,854 | ///////////// | 82,374

Frequency: On occasion.

Estimated Total Burden Hours: 82,374.

Total Burden Cost (capital/startup): $0.

Total Burden Cost (operating/maintenance): $0.

Comments submitted in response to this notice will be summarized and/or included in the request for Office of Management and Budget approval of the information collection request; they will also become a matter of public record.

Dated: March 26, 2004.
Bruce Bohanon,
Chief, Branch of Management Review and Internal Control, Division of Financial Management, Office of Management, Administration and Planning, Employment Standards Administration.

[FR Doc. 04-7283 Filed 3-31-04; 8:45 am]

BILLING CODE 4510-27-P